DEPARTMENT OF COMMERCE

National Oceanic and Atmospheric Administration

[File No. 16482-01]

RIN 0648-XA713

Endangered Species

AGENCY: National Marine Fisheries Service (NMFS), National Oceanic and Atmospheric Administration (NOAA), Commerce.

ACTION: Issuance of a permit modification and termination of a permit.

SUMMARY: Notice is hereby given that Warnell School of Forest Resources, Fisheries Division, University of Georgia, Athens, Georgia 30602 [Douglas Peterson: Responsible Party], has been issued a permit modification (Permit No. 16482-01) to take to take Atlantic sturgeon (Acipenser oxyrinchus oxyrinchus) and shortnose sturgeon (Acipenser brevirostrum) for purposes of scientific research. Additionally, Permit No. 14394 issued to the same Permit Holder for study of shortnose sturgeon is hereby terminated.

ADDRESSES: The permit modification and related documents are available for review upon written request or by appointment in the following office:

Permits, Conservation and Education Division, Office of Protected Resources, NMFS, 1315 East-West Highway, Room 13705, Silver Spring, MD 20910; phone (301) 427-8401; fax (301) 713-0376.

FOR FURTHER INFORMATION CONTACT: Malcolm Mohead, (301) 427-8401.

SUPPLEMENTARY INFORMATION: On November 7, 2013, notice was published in the Federal Register (78 FR 66901) that a scientific research permit modification to take shortnose and Atlantic sturgeon had been submitted by the above-named organization. The respective requested permits have been issued and terminated under the authority of the Endangered Species Act of 1973, as amended (ESA; 16 U.S.C. 1531 et seq.) and the regulations governing the taking, importing, and exporting of endangered and threatened species (50 CFR parts 222-226).

Permit No. 16482 was issued April 6, 2012 (77 FR 21754) to the Permit Holder to capture all Atlantic sturgeon life stages in the Savannah (SC/GA), Ogeechee (GA), Altamaha (GA), Satilla (GA), and Saint Marys (GA/FL) Rivers using gill nets and trammel nets to measure, weigh, photograph, PIT and Floy tag, and tissue sample. Subsets of animals are anesthetized, fin ray sectioned, laparoscoped, and implanted with internal acoustic tags. The collection of early life stages in suspected spawning areas using egg mats is also permitted in each of these rivers. Incidental mortality of serious harm of up to five juvenile and sub-adults and one adult annually is also authorized.

The permit modification (Permit No. 16482-01) consolidates the takes of shortnose sturgeon originally issued in Permit No 14394 in the Altamaha River (GA). Permit 14394 was terminated upon issuance of the modification. This modification transfers blood sampling from subsets of captured Atlantic and shortnose sturgeon to that permit, adds sampling of early life stage shortnose sturgeon, and adds takes of other shortnose sturgeon life stages using the same research activities, from the Savannah, Ogeechee, Satilla River (GA), Saint Marys Rivers (GA/FL) and Saint Johns and Nassau Rivers (FL), as well as Atlantic sturgeon from the Nassau and Saint Johns Rivers (FL). Incidental mortality of two juvenile or adult shortnose sturgeon is authorized annually from all river systems. The modification is valid through the expiration date of the original permit, April 5, 2017.

Issuance of this permit modification, as required by the ESA, was based on a finding that such permit (1) was applied for in good faith; (2) will not operate to the disadvantage of such endangered or threatened species; and (3) is consistent with the purposes and policies set forth in section 2 of the ESA.

Dated: May 15, 2014.
Tammy C. Adams,
Acting Chief, Permits and Conservation Division, Office of Protected Resources, National Marine Fisheries Service.

[FR Doc. 2014-11604 Filed 5-19-14; 8:45 am]

BILLING CODE 3510-22-P